DEPARTMENT OF COMMERCE

International Trade Administration

Export Trade Certificate of Review

ACTION: Notice of Issuance of an Amended Export Trade Certificate of Review, Application No. 87-7A001.

SUMMARY: The Department of Commerce has issued an amendment to the Export Trade Certificate of Review granted originally to the American Film Marketing Association (“AFMA”) on May 19, 1987. Notice of issuance of the Certificate was published in the Federal Register on April 17, 1987 (52 FR 12578).

FOR FURTHER INFORMATION CONTACT: Jeffrey C. Anspacher, Director, Office of Export Trading Company Affairs, International Trade Administration, at telephone (202) 482-5131 (this is not a toll-free number) or by E-mail at oetca@ita.doc.gov.

SUPPLEMENTARY INFORMATION: Title III of the Export Trading Company Act of 1982 (15 U.S.C. 4001-21) authorizes the Secretary of Commerce to issue Export Trade Certificates of Review. The regulations implementing Title III are found at 15 CFR part 325 (2003).

The Office of Export Trading Company Affairs (“OETCA”) is issuing this notice pursuant to 15 CFR 325.6(b), which requires the Department of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Amendment Certificate

Export Trade Certificate of Review No. 87-00001, was issued to the American Film Marketing Association on April 10, 1987 (52 FR 12578, April 17, 1987) and last amended on December 9, 1998 (64 FR 10993, March 8, 1999).

AFMA's Export Trade Certificate of Review has been amended to:

1. Add each of the following companies as a new “Member” of the Certificate within the meaning of section 325.2(l) of the Regulations (15 CFR 325.2(l)): Adriana Chiesa Enterprises SRL, Rome, Italy; Alliance Atlantis Communications Corporation, Toronto, Canada; Arclight Films Pty. Ltd., Sydney, Australia; Atlas International Film GMBH, Munich, Germany; Atrium Productions KFT, Rotterdam, The Netherlands; Beyond Film, Ltd., Surry Hills, Australia; British Film Institute, London, United Kingdom; Buena Vista Television, a Division of Disney/ABC Int'l TV Inc., Burbank, California; BV International Pictures AS, Avaldsnes, Norway; Capitol Films Limited, London, United Kingdom; China Star Entertainment Group, TST, Kowloon, Hong Kong; Cinemavault Releasing, Toronto, Canada; Cori Distribution Group, London, United Kingdom; DZ Bank, London, United Kingdom; FIDEC, Montreal, Canada; Film Finance Corporation, Sydney, Australia; Filmax-SOGEDASA, Barcelona, Spain; Filmexport Group SRL, Rome, Italy; Filmfour International, London, United Kingdom; Fintage House, Leiden, The Netherlands; Fleetboston Financial, Boston, Massachusetts; Focus Features, New York, New York; Fortissimo Film Sales, Amsterdam, The Netherlands; Freeway Entertainment Group Ltd., Budapest, Hungary; Fremantlemedia Enterprises, London, United Kingdom; Good Times Entertainment, Inc., Bel Air, California; Han Entertainment, Hong Kong; Hanway Films, London, United Kingdom; Hollywood Previews Entertainment, Inc., Santa Monica, California; Horizon Entertainment, Inc., Vancouver, Canada; IAC Film & Television, London, United Kingdom; Icon Entertainment International, London, United Kingdom; IFD Films & Arts, Ltd., Tsing Yi, New Territories, Hong Kong; IFM World Releasing, Inc., Glendale, California; In-Motion Pictures, Inc., London, United Kingdom; Intra Movies SRL, Rome, Italy; JP Morgan Securities, Inc. Entertainment Industries Group, Los Angeles, California; Kevin Williams Associates, S.A., Madrid, Spain; Lolafilms, Madrid, Spain; Media Asia Distribution, Ltd., Causeway Bay, Hong Kong; Moviehouse Entertainment, London, United Kingdom; New Zealand Film Commission, Wellington, New Zealand; North American Releasing, Inc., Vancouver, Canada; North by Northwest Distribution, Spokane, Washington; Oasis International, Toronto, Canada; Pathe International, Paris, France; Powerhouse Entertainment Group, Inc., Beverly Hills, California; Pueblo Film Group, Zurich, Switzerland; Renaissance Films, Ltd., London, United Kingdom; Safir Films, Ltd., Harrow, Middlesex, United Kingdom; Sogepaq S.A., Madrid, Spain; Solo Entertainment Group, Inc., Beverly Hills, California; Splendid Pictures, Inc., Bel Air, California; Stadsparkasse Koeln, Entertainment Finance, Cologne, Germany; Studiocanal, Boulogne, France; Svensk Filmindustri, AB, Stockholm, Sweden; Telepool, Munich, Germany; TF 1 International, Boulogne Billancourt Cedex, France; Trust Film Sales, Hvidovre, Denmark; TVA Films, A Division of Group TVA, Inc., Montreal, Canada; UGC International, Neuilly sur Seine, France; Vine International Pictures, Ltd., Downe, Orpington, United Kingdom; and The Works, London, United Kingdom; and

2. Delete the following companies as “Members” of the Certificate: Arama Entertainment, Encino, California; Associated Television International, Los Angeles, California; Blue Rider Pictures, Manhattan Beach, California; Capella International, Inc., Beverly Hills, California; IFM Film Associates, Inc., Glendale, California; Largo Entertainment, Beverly Hills, California, NBC Enterprises, Burbank, California; Saban Pictures International, Los Angeles, California; The Kushner-Locke Company, Beverly Hills, California; Village Roadshow Pictures, Burbank, California; Cinema Completions International, Studio City, California; and Good Machine International, Inc., New York, New York. An additional 13 firms were announced in the Federal Register as “companies to be deleted,” but these companies were subsequently removed from the list. In the application, the Applicant inadvertently included included the aforementioned 13 companies as Member companies to be deleted, but these 13 companies were not Members of 87-5A001 Certificate of Review issued on March 8, 1999.

A copy of the amended certificate will be kept in the International Trade Administration's Freedom of Information Records Inspection Facility, Room 4102, U.S. Department of Commerce, 14th Street and Constitution Avenue, NW., Washington, DC 20230.

Dated: August 7, 2003.
Jeffrey C. Anspacher,
Director, Office of Export Trading Company Affairs.

[FR Doc. 03-20587 Filed 8-12-03; 8:45 am]

BILLING CODE 3510-DR-P